DEPARTMENT OF COMMERCE

International Trade Administration

[A-549-842]

Passenger Vehicle and Light Truck Tires From Thailand: Final Results of Antidumping Duty Administrative Review; 2021-2022

AGENCY: Enforcement and Compliance, International Trade Administration, Department of Commerce.

SUMMARY: The U.S. Department of Commerce (Commerce) determines that Sentury Tire (Thailand) Co., Ltd. (Sentury) and Sumitomo Rubber (Thailand) Co., Ltd. (SRT) made sales of subject merchandise in the United States at prices below normal value (NV) during the period of review (POR) January 6, 2021, through June 30, 2022. Commerce further determines that sales of subject merchandise made by the non-individually examined companies were at prices below NV.

DATES: Applicable January 29, 2024.

FOR FURTHER INFORMATION CONTACT: Myrna Lobo or Jacob Saude, AD/CVD Operations, Office VII, Enforcement and Compliance, International Trade Administration, U.S. Department of Commerce, 1401 Constitution Avenue NW, Washington, DC 20230; telephone: (202) 482-2371 or (202) 482-0981, respectively.

SUPPLEMENTARY INFORMATION:

Background

On July 27, 2023, Commerce published the preliminary results of the 2021-2022 administrative review of the antidumping duty order on passenger vehicle and light truck tires (passenger tires) from Thailand.¹ We invited interested parties to comment on the Preliminary Results.² On November 8, 2023, Commerce extended the deadline for the final results of this administrative review until January 23, 2024.³

¹ See Passenger Vehicle and Light Truck Tires from Thailand: Preliminary Results of Antidumping Duty Administrative Review; 2021-2022, 88 FR 48435 (July 27, 2023) (Preliminary Results), and accompanying Preliminary Decision Memorandum.

² Id., 88 FR at 48436.

³ See Memorandum, “Extension of Deadline for Final Results of Antidumping Duty Administrative Review,” dated November 8, 2023.

For a summary of the events that occurred since the Preliminary Results, see the Issues and Decision Memorandum.⁴ Commerce conducted this review in accordance with section 751(a) of the Tariff Act of 1930, as amended (the Act).

⁴ See Memorandum, “Issues and Decision Memorandum for the Final Results of the 2021-2022 Administrative Review of the Antidumping Duty Order on Passenger Vehicle and Light Truck Tires from Thailand,” dated concurrently with, and hereby adopted by, this notice (Issues and Decision Memorandum).

Scope of the Order ⁵

⁵ See Passenger Vehicle and Light Truck Tires from the Republic of Korea, Taiwan, and Thailand: Antidumping Duty Orders and Amended Final Affirmative Antidumping Duty Determination for Thailand, 86 FR 38011 (July 19, 2021) (Order).

The merchandise subject to this Order are passenger tires from Thailand. A full description of the scope of the Order is contained in the Issues and Decision Memorandum.

Analysis of Comments Received

We addressed all issues raised in the case and rebuttal briefs filed in this administrative review in the Issues and Decision Memorandum. A list of the issues addressed in the Issues and Decision Memorandum is included in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade/gov/public/FRNoticesListLayout.aspx.

Changes Since the Preliminary Results

Based on an analysis of the comments received, we have made no changes to the Preliminary Results.

Rates for Non-Examined Respondents

The statute and Commerce's regulations do not address the establishment of a weighted-average dumping margin to be determined for companies not selected for individual examination when Commerce limits its examination in an administrative review pursuant to section 777A(c)(2) of the Act. Generally, Commerce looks to section 735(c)(5) of the Act, which provides instructions for calculating the all-others rate in an investigation, for guidance when determining the weighted-average dumping margin for companies which were not selected for individual examination in an administrative review. Under section 735(c)(5)(A) of the Act, the all-others rate is normally an amount equal to the weighted average of the estimated weighted-average dumping margins established for exporters and producers individually investigated, excluding any zero and de minimis margins, and any margins determined entirely on the basis of facts available.

In this review, we calculated weighted-average dumping margins of 1.24 percent and 6.16 percent for Sentury and SRT, respectively. With two respondents under individual examination, Commerce normally calculates: (A) a weighted average of the estimated dumping rates calculated for the examined respondents; (B) a simple average of the estimated dumping rates calculated for the examined respondents; and (C) a weighted average of the estimated dumping rates calculated for the examined respondents using each company's publicly-ranged U.S. sales values for the merchandise under consideration. Commerce then compares (B) and (C) to (A) and selects the rates closest to (A) as the most appropriate rate for all other producers and exporters.⁶ As a result of this comparison, we assigned a dumping margin of 4.52 percent to the non-examined companies.⁷

⁶ See, e.g., Ball Bearings and Parts Thereof from France, Germany, Italy, Japan, and the United Kingdom: Final Results of Antidumping Duty Administrative Reviews, Final Results of Changed-Circumstances Review, and Revocation of an Order in Part, 75 FR 53661 (September 1, 2020).

⁷ See Memorandum, “Calculation of the Rate for Non-Examined Companies for the Preliminary Results,” dated July 30, 2023.

Final Results of Review

We determine the following weighted-average dumping margins for the period January 6, 2021, through June 30, 2022.

Exporter/producer | Weight-average dumping margin (percent)
Sentury Tire (Thailand) Co., Ltd | 1.24
Sumitomo Rubber (Thailand) Co., Ltd | 6.16
Review-Specific Average Rate Applicable to the Following Companies
Deestone Corporation Ltd./Deestone Corporation Public Company Limited | 4.52
General Rubber (Thailand) Co., Ltd | 4.52
LLIT (Thailand) Co., Ltd | 4.52
Maxxis International (Thailand) Co., Ltd | 4.52
Otani Radial Company Limited | 4.52
Prinx Chengshan Tire (Thailand) Co., Ltd | 4.52
Sanpo (Thailand) Co., Ltd | 4.52
Zhongce Rubber (Thailand) Co., Ltd | 4.52

The final results of this review shall be the basis for the assessment of antidumping duties on entries of merchandise covered by the final results of this review and for future deposits of estimated duties, where applicable.⁸

⁸ See section 751(a)(2)(C) of the Act.

Disclosure

Because we made no changes to the calculations performed in connection with the Preliminary Results, there are no new calculations to disclose, in accordance with 19 CFR 351.224(b), for these final results.

Assessment Rates

Pursuant to section 751(a)(2)(A) of the Act and 19 CFR 351.212(b)(1), Commerce has determined, and U.S. Customs and Border Protection (CBP) shall assess, antidumping duties on all appropriate entries of subject merchandise in accordance with the final results of this review. As Sentury's and SRT's weighted-average dumping margins are not zero or de minimis (i.e., less than 0.50 percent), for these final results, Commerce has calculated importer-specific assessment rates on the basis of the ratio of the total amount of dumping calculated for each importer's examined sales to the total entered value of those sales. Where we do not have entered values for all U.S. sales to a particular importer, we will calculate an importer-specific, per-unit assessment rate on the basis of the ratio of the total amount of dumping calculated for the importer's examined sales to the total quantity of those sales.⁹ To determine whether an importer-specific, per-unit assessment rate is de minimis, in accordance with 19 CFR 351.106(c)(2), we also will calculate an importer-specific ad valorem ratio based on estimated entered values. Where either Sentury's and SRT's weighted-average dumping margin is zero or de minimis, or an importer-specific ad valorem assessment rate is zero or de minimis, we will instruct CBP to liquidate appropriate entries without regard to antidumping duties.¹⁰

⁹ See 19 CFR 351.212(b)(1).

¹⁰ See 19 CFR 352.106(c)(2); see also Antidumping Proceeding: Calculation of the Weighted-Average Dumping Margin and Assessment Rate in Certain Antidumping Proceedings; Final Modification, 77 FR 8101, 8103 (February 14, 2012).

For entries of subject merchandise during the POR produced by either Sentury or SRT for which it did not know that the merchandise it sold to the intermediary (e.g., reseller, trading company, or exporter) was destined for the United States, we will instruct CBP to liquidate such entries at the all-others rate (i.e., 17.06 percent) ¹¹ if there is no rate for the intermediate company(ies) involved in the transaction.¹²

¹¹ See Order, 86 FR at 38012.

¹² For a full discussion of this practice, see Antidumping and Countervailing Duty Proceedings: Assessment of Antidumping Duties, 68 FR 23954 (May 6, 2003).

For the companies that were not selected for individual review, we will assign an assessment rate based on the review-specific average rate, calculated as noted in the “Rate for Non-Examined Respondents” section above.

Commerce intends to issue assessment instructions to CBP no earlier than 35 days after the date of publication of these final results in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the date of publication of the final results of this administrative review, as provided by section 751(a)(2)(C) of the Act: (1) the cash deposit rates for the reviewed companies will be equal to the weighted-average dumping margin established in the final results of this review; (2) for producers or exporters not covered in this review but covered in a prior completed segment of the proceeding, the cash deposit rate will continue to be the company-specific rate published in the most recently completed segment; (3) if the exporter is not a firm covered in this review, a prior review, or the original less-than-fair-value (LTFV) investigation, but the producer is, then the cash deposit rate will be the rate established in the most recently completed segment for the producer of the merchandise; (4) the cash deposit rate for all other producers or exporters will continue to be 17.06 percent, the all-others rate established in the LTFV investigation in this proceeding.¹³ These cash deposit requirements, when imposed, shall remain in effect until further notice.

¹³ See Order.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

We are issuing and publishing these final results of administrative review in accordance with sections 751(a) and 777(i) of the Act, and 19 CFR 351.221(b)(5).

Dated: January 23, 2024.
Abdelali Elouaradia,
Deputy Assistant Secretary for Enforcement and Compliance.

Appendix

List of Topics Discussed in the Issues and Decision Memorandum

I. Summary

II. Background

III. Scope of the Order

IV. Discussion of the Issues

Comment 1: The Cohen's d Test

Comment 2: Whether To Rely on SRT Data To Calculate Sentury's Constructed Value (CV) Profit and Indirect Selling Expenses (ISE)

Comment 3: Whether To Revise Sentury Tire USA Inc.'s (Sentury USA) Inventory Carrying Costs (ICC) Calculation

Comment 4: Whether USWAREH1U Expense Is Included in the Calculation of Adjusted U.S. Prices for SRT

Comment 5: Whether To Grant SRT a Constructed Export Price (CEP) Offset

V. Recommendation

[FR Doc. 2024-01715 Filed 1-26-24; 8:45 am]

BILLING CODE 3510-DS-P